DEPARTMENT OF ENERGY

Federal Energy Regulatory Commission

[Docket No. IC10-725E-000]

Commission Information Collection Activities (FERC-FERC-725E); Comment Request; Extension

June 15, 2010.

AGENCY: Federal Energy Regulatory Commission, Energy.

ACTION: Notice of proposed information collection and request for comments.

SUMMARY: In compliance with the requirements of section 3506(c)(2)(A) of the Paperwork Reduction Act of 1995, 44 U.S.C. 3506(c)(2)(A) (2006), (Pub. L. No. 104-13), the Federal Energy Regulatory Commission (Commission or FERC) is soliciting public comment on the proposed information collection described below.

DATES: Comments in consideration of the collection of information are due 60 days after publication of this Notice in the Federal Register.

ADDRESSES: Comments may be filed either electronically (eFiled) or in paper format, and should refer to Docket No. IC10-725E-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at http://www.ferc.gov/docs-filing/elibrary.asp, by searching on Docket No. IC10-725E-000. For user assistance, contact FERC Online Support by e-mail at ferconlinesupport@ferc.gov, or by phone at: (866) 208-3676 (toll-free) or (202) 502-8659 for TTY.

FOR FURTHER INFORMATION CONTACT: Michael Miller may be reached by e-mail at DataClearance@FERC.gov, telephone at (202) 502-8415, and fax at (202) 273-0873.

SUPPLEMENTARY INFORMATION: The information collected by the FERC-725E (OMB Control No. 1902-0246) is required to implement the statutory provisions of section 215 of the Federal Power Act (FPA) (16 U.S.C. 824o). Section 215 of the FPA buttresses the Commission's efforts to strengthen the reliability of the interstate grid through the grant of new authority by providing for a system of mandatory Reliability Standards developed by the Electric Reliability Organization. Reliability Standards that the ERO proposes to the Commission may include Reliability Standards that are proposed to the ERO by a Regional Entity.¹ A Regional Entity is an entity that has been approved by the Commission to enforce Reliability Standards under delegated authority from the ERO.² On June 8, 2008 in an adjudicatory order, the Commission approved eight regional Reliability Standards submitted by the ERO that were proposed by the Western Electricity Coordinating Council (WECC).³

¹ 16 U.S.C. 824o(e)(4).

² 16 U.S.C. 824o(a)(7) and (e)(4).

³ 72 FR 33462, June 18, 2007.

WECC is responsible for coordinating and promoting electric system reliability. In addition to promoting a reliable electric power system in the Western Interconnection, WECC supports efficient competitive power markets, ensures open and non-discriminatory transmission access among members, and provides a forum for resolving transmission access disputes plus the coordination of operating and planning activities of its members. WECC and the eight other regional reliability councils were formed due to national concern regarding the reliability of the interconnected bulk power systems, the ability to operate these systems without widespread failures in electric service and the need to foster the preservation of reliability through a formal organization. The eight regional Reliability Standards are translations of existing reliability criteria and are now binding on the applicable subset of users, owners and operators of the Bulk Power System in the United States portion of the Western Interconnection. The Commission's reporting requirements are found in 18 CFR Part 40.

The eight proposed Reliability Standards do not require responsible entities to file information with the Commission. However, the standards do require responsible entities to file periodic reports with WECC and to develop and maintain certain information for a specified period of time, subject to inspection by WECC. WECC-BAL-STD-002-0 requires balancing authorities and reserve sharing groups to submit to WECC quarterly reports on operating reserves as well as reports after any instance of non-compliance. WECC-IRO-STD-006-0 requires transmission operators, balancing authorities and load-serving entities to document and report to WECC actions taken in response to direction to mitigate unscheduled flow. The standard also requires transmission operators to document required actions that are and are not taken by responsible entities. WECC-PRC-STD-001-1 requires certain transmission operators to submit to WECC annual certifications of protective equipment. WECC-PRC-STD-003-1 requires certain transmission operators to report to WECC any misoperation of relays and remedial action schemes. WECC-PRC-STD-005-1 requires certain transmission operators to maintain, in stated form, maintenance and inspection records pertaining to their transmission facilities. The standard also requires operators to certify to WECC that the operator is maintaining the required records. WECC-TOP-STD-007-0 requires certain transmission operators to submit to WECC quarterly reports on transfer capability data and compliance as well as reports after an instance of non-compliance. WECC-VAR-STD-002a-1 and WECC-VAR-STD-002b-1 require certain generators to submit quarterly reports to WECC on automatic voltage control and power system stabilizers. All of the foregoing regional Reliability Standards require the reporting entity to retain relevant data in electronic form for one year or for a longer period if the data is relevant to a dispute or potential penalty, except that WECC-PRC-STD-005-1 requires retention of maintenance and inspection records for five years and retention of other data for four years.

The Commission uses the data to participate in North American Electric Reliability Council's (NERC's) Reliability readiness reviews of balancing authorities, transmission operators and reliability coordinators in North America to determine their readiness to maintain safe and reliable operations. In addition, FERC's Office of Electric Reliability uses the data to engage in studies and other activities to assess the longer-term and strategic needs and issues related to power grid reliability.

Action: The Commission is requesting a three-year extension of the FERC-725E reporting requirements, with no changes.

Burden Statement: The estimated annual burden follows.

FERC Data collection | Number of respondents | Average number of reponses per respondent | Average burden hours per response | Total burden hours
| (1) | (2) | (3) | (1) x (2) x (3)
FERC-725E Reporting:
Balancing Authorities | 32 | 1 | 20 | 640
Generator Operators | 196 | 1 | 10 | 1960
Load-Serving Entities | 140 | 1 | 10 | 1490
Transmission Operators/Owners | 83 | 1-7 each (total of 83) | 40 | 3320
Record-keeping | Balancing Authorities |  |  | 64
| Generator Operators |  |  | 196
| Load-Serving Entities |  |  | 140
| Transmission Owners/Operators |  |  | 332
| Totals |  |  | 732

7,410 Total Annual hours for the Information Collection: 7,410 reporting hours + 732 recordkeeping = 8,142 hours.

The Commission is seeking comments on the costs to comply with these requirements. It has projected the average annualized cost to be $918,480 as shown below:

Reporting = 7,410 hours @ $120/hour = $889,200, Recordkeeping = 732 hours @ $40/hour = $29,280

Total Costs = Reporting ($889,200) + Recordkeeping ($29,280) = $918,480

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. 2010-14956 Filed 6-18-10; 8:45 am]

BILLING CODE 6717-01-P